DEPARTMENT OF DEFENSE

Office of the Secretary

Notice of Availability of Designation of Chinese Military Companies

AGENCY: Office of the Under Secretary of Defense (Acquisition and Sustainment), Department of Defense.

ACTION: Notice of Chinese military companies.

SUMMARY: The Secretary of Defense has determined that the entities listed in the SUPPLEMENTARY INFORMATION section of this notice qualify as “Chinese military companies” in accordance with the William M. (Mac) Thornberry National Defense Authorization Act (NDAA) for Fiscal Year 2021 (FY21).

FOR FURTHER INFORMATION CONTACT: Ms. Nicoletta S. Giordani, Director (GIES), (703) 693-6613.

SUPPLEMENTARY INFORMATION: Section 1260H of the William M. (Mac) Thornberry NDAA for FY21 (Pub. L. 116-283) requires the Secretary of Defense to continue to list “Chinese military companies” (CMCs) annually until December 31, 2030. Paragraph (b)(2) of this section requires the Secretary of Defense to publish the unclassified portion of such list in the Federal Register.

The Secretary of Defense has determined that the following entities qualify as “Chinese military companies” in accordance with Section 1260H of the William M. (Mac) Thornberry NDAA for FY21 (Pub. L. 116-283):

360 Security Technology Inc. (Qihoo 360)

Advanced Micro-Fabrication Equipment Inc. China (AMEC)

Aerospace CH UAV Co., Ltd (S-SEA)

Aerosun Corporation (Aerosun)

Aviation Industry Corporation of China Ltd. (AVIC)

AVIC Aviation High-Technology Company Limited (AVIC Aviation Hi-Tech)

AVIC Heavy Machinery Company Limited (AVIC Heavy Machinery)

AVIC Jonhon Optronic Technology Co., Ltd. (AVIC Jonhon)

AVIC Shenyang Aircraft Company Limited (AVIC Shenyang)

AVIC Xi'an Aircraft Industry Group Company Ltd. (AVIC Xi'an)

Beijing Megvii Technology Co., Ltd. (Megvii)

Beijing Zhidao Chuangyu Information Technology Co., Ltd. (Knownsec)

BGI Genomics Co., Ltd. (BGI)9

Chengdu JOUAV Automation Tech Co., Ltd. (JOUAV)

Chengdu M&S Electronics Technology Co., Ltd. (M&S Electronics)

China Aerospace Science and Industry Corporation Limited (CASIC)

China Communications Construction Company Limited (CCCC)

China Communications Construction Group (Limited) (CCCG)

China Construction Technology Co., Ltd. (CCTC)

China Electronics Corporation (CEC)

China Electronics Technology Group Corporation (CETC)

China General Nuclear Power Corporation (CGN)

China Marine Information Electronics Company Limited (China Marine Info Elec)

China Mobile Communications Group Co., Ltd. (China Mobile Comm)

China Mobile Limited (China Mobile)

China National Chemical Corporation Ltd. (ChemChina)

China National Chemical Engineering Group Corporation (CNCEC)

China National Nuclear Corporation (CNNC)

China National Offshore Oil Corporation (CNOOC)

China North Industries Group Corporation Limited (Norinco Group)

China Railway Construction Corporation Limited (CRCC)

China South Industries Group Corporation (CSGC)

China SpaceSat Co., Ltd. (China SpaceSat)

China State Construction Engineering Corporation Limited (CSCEC)

China State Construction Group Co.

China State Shipbuilding Corporation Limited (CSSC)

China Telecom Corporation Limited

China Telecom Group Co., Ltd. (China Telecom)

China Telecommunications Corporation

China Three Gorges Corporation (CTG)

China Unicom (Hong Kong) Limited (China Unicom HK)

China United Network Communications Group Co., Ltd. (China Unicom)

CloudWalk Technology Co., Ltd (CloudWalk)

CNOOC Limited

Costar Group Co., Ltd. (Costar)

CRRC Corporation Limited (CRRC)

Dawning Information Industry Co., Ltd. (Sugon)

Global Tone Communication Technology Co Ltd. (GTCOM)

Guizhou Aviation Technical Development Co., Ltd. (Guizhou Aviation Tech)

Hangzhou Hikvision Digital Technology Co., Ltd. (Hikvision)

Hesai Technology Co., Ltd. (Hesai)

Huawei Investment & Holding Co., Ltd. (Huawei Holding)

Huawei Technologies Co., Ltd. (Huawei)

IDG Capital Partners Co., Ltd. (IDG Capital)

Inner Mongolia First Machinery Group Co., Ltd. (Inner Mongolia)

Inspur Group Co., Ltd. (Inspur)

Jiangxi Hongdu Aviation Industry Co., Ltd. (Hongdu Aviation)

NetPosa Technologies, Ltd. (NetPosa)

Semiconductor Manufacturing International Corporation (SMIC)

Semiconductor Manufacturing International (Beijing) Corporation (SMIC Beijing)

Semiconductor Manufacturing International (Shenzhen) Corporation (SMIC Shenzhen)

Semiconductor Manufacturing International (Tianjin) Corporation (SMIC Tianjin)

Semiconductor Manufacturing South China Corporation (SMIC South China)

Shanghai Yitu Network Technology Co., Ltd. (Yitu)

ShenZhen Consys Science & Technology Co., Ltd. (Consys)

Shenzhen DJI Innovation Technology Co., Ltd. (DJI)

SMIC Holdings Limited (SMIC Holdings)

SMIC Northern Integrated Circuit Manufacturing (Beijing) Co., Ltd (SMIC NICM)

SMIC Semiconductor Manufacturing (Shanghai) Co., Ltd (SMIC Shanghai)

Wuhan Geosun Navigation Technology Co., Ltd. (Geosun)

Yangtze Memory Technologies Co., Ltd. (YMTC)

Zhejiang Dahua Technology Co., Ltd. (Dahua)

Zhonghang Electronic Measuring Instruments Company Limited (ZEMIC)

Dated: March 27, 2024.
Aaron T. Siegel,
Alternate OSD Federal Register Liaison Officer, Department of Defense.

[FR Doc. 2024-06895 Filed 4-1-24; 8:45 am]

BILLING CODE 6001-FR-P